DEPARTMENT OF HEALTH AND HUMAN SERVICES

National Institutes of Health

National Cancer Institute; Amended Notice of Meeting

Notice is hereby given of a change in the meeting of the National Cancer Advisory Board, September 08, 2014, 6 p.m. to September 10, 2014, 12 p.m., National Institutes of Health, Building 31, 31 Center Drive, Bethesda, MD, 20892 which was published in the Federal Register on August 12, 2014, 79 FR 47150.

The meeting notice is being amended for the following reasons: 1) The Ad hoc Subcommittee on Global Cancer Research on September 8, 2014 will now convene from 6:30 p.m. to 8 p.m.; 2) the open session times on September 9, 2014 are now from 8:30 a.m. to 11:30 a.m. and 1:30 p.m. to 5:30 p.m.; 3) the closed session will be from 11:30 a.m. to 12:30 p.m.; and 4) the meeting is canceled on September 10, 2014. The meeting is partially closed to the public.

Dated: August 18, 2014.
Melanie J. Gray,
Program Analyst, Office of Federal Advisory Committee Policy.

[FR Doc. 2014-20009 Filed 8-21-14; 8:45 am]

BILLING CODE 4140-01-P